DEPARTMENT OF DEFENSE

Department of the Navy

48 CFR Part 5252

[Docket ID: USN-2018-DARS-0023]

RIN 0703-AB15

Solicitation Provisions and Contract Clauses

AGENCY: Department of the Navy, DoD.

ACTION: Final rule.

SUMMARY: This final rule removes the Department of the Navy (DON) regulation containing solicitation provisions and contract clauses. This rule contains DON supplemental guidance to the Federal Acquisition Regulation (FAR) and Defense Federal Acquisition Regulation Supplement (DFARS) which has been superseded by existing FAR and DFARS guidance. The rule is no longer used or valid and should be removed.

DATES: This rule is effective on February 11, 2019.

FOR FURTHER INFORMATION CONTACT: Denise Randolph, 703-614-9767, Denise.Randolph@navy.mil.

SUPPLEMENTARY INFORMATION: It has been determined that publication of this CFR part removal for public comment is impracticable, unnecessary, and contrary to public interest since it is removing obsolete information. The provision at 5252.215.-9000 is duplicative of instructions at FAR 15.403-5. The Navy clause at 5252.242-9000 duplicates Department-wide policy on “voluntary refunds” for spares and for other items at DFARS 242.7100 and DFARS Procedures, Guidance and Information (PGI) 242.7100. This rule removes the superseded regulations which are obsolete.

This rule is not significant under Executive Order (E.O.) 12866, “Regulatory Planning and Review,” therefore, the requirements of E.O. 13771, “Reducing Regulation and Controlling Regulatory Costs” do not apply.

List of Subjects in 48 CFR Part 5252

Government procurement.

For reasons set out in the preamble, and under the authority at 5 U.S.C. 301, 48 CFR part 5252 is removed and reserved.

PART 5252—[REMOVED AND RESERVED]

Dated: February 5, 2019.
M.S. Werner,
Lieutenant Commander, Judge Advocate General's Corps, U.S. Navy, Federal Register Liaison Officer.

[FR Doc. 2019-01766 Filed 2-8-19; 8:45 am]

BILLING CODE 3810-FF-P